FEDERAL COMMUNICATIONS COMMISSION

47 CFR Parts 0 and 15

[ET Docket Nos. 04-186 and 02-380; FCC 10-174]

Unlicensed Operation in the TV Broadcast Bands

AGENCY: Federal Communications Commission.

ACTION: Final rules; announcement of effective date.

SUMMARY: In this document, the Commission announces that the Office of Management and Budget (OMB) has approved, for a period of three years, the information collection requirements contained in the regulations for issues relating to the unlicensed use of the TV bands (TV White Space). The information collection requirements were approved on September 7, 2011 by OMB.

DATES: The amendments to 47 CFR 15.713, 15.714, 15.715 and 15.717, published at 75 FR 75814, December 6, 2010, are effective on September 14, 2011.

FOR FURTHER INFORMATION CONTACT: For additional information contact Cathy Williams on (202) 418-2918 or via e-mail to: cathy.williams@fcc.gov.

SUPPLEMENTARY INFORMATION: This document announces that on September 7, 2011, OMB approved, for a period of three years, the information collection requirements contained in 47 CFR 15.713, 15.714, 15.715 and 15.717. The Commission publishes this document to announce the effective date of the rule sections. See, In the Matter of “Unlicensed Operation in the TV Broadcast Bands; Additional Spectrum for Unlicensed Devices Below 900 MHz and in the 3 GHz Band, ET Docket Nos. 04-186 and 02-380; FCC 10-174, 75 FR 75814, December 6, 2010.

Synopsis

As required by the Paperwork Reduction Act of 1995, (44 U.S.C. 3507), the Commission is notifying the public that it received OMB approval on September 7, 2011, for the information collection requirement contained in 47 CFR 15.713, 15.714, 15.715 and 15.717. Under 5 CFR part 1320, an agency may not conduct or sponsor a collection of information unless it displays a current, valid OMB Control Number.

No person shall be subject to any penalty for failing to comply with a collection of information subject to the Paperwork Reduction Act that does not display a valid OMB Control Number.

The OMB Control Number is 3060-1155 and the total annual reporting burdens for respondents for this information collection are as follows:

Title: Sections 15.713, 15.714, 15.715 and 15.717, TV White Space Broadcast Bands.

Form No.: Not applicable.

Type of Review: New Collection.

OMB Control Number: 3060-1155.

OMB Approval Date: 09/07/2011.

OMB Expiration Date: 09/30/2014.

Respondents: Business or other for-profit.

Number of Respondents: 2,000 respondents; 2,000 responses.

Estimated Time per Response: 2 hours.

Frequency of Response: On occasion reporting requirement, recordkeeping requirement and third party disclosure requirement.

Obligation to Respond: Required to obtain or retain benefits. Statutory authority for this information collection is contained in 154(i), 302, 303(c), 303(f), and 307.

Total Annual Burden: 4,000 hours.

Total Annual Cost: $100,000.

Privacy Act Impact Assessment: N/A.

Nature and Extent of Confidentiality: The Commission is not requesting respondents to submit confidential information to the Commission. Respondents may request that portions of their information remain confidential in accordance with 47 CFR 0.459 of the Commission's rules.

Needs and Uses: On November 14, 2008, the Commission adopted a Second Report and Order and Memorandum Opinion and Order, FCC 08-260, ET Docket No. 04-186 that established rules to allow new and unlicensed wireless devices to operate in the broadcast television spectrum at locations where that spectrum is not being used by licensed services (this unused TV spectrum is often termed television “white spaces”). The rules will allow for the use of unlicensed TV band devices in the unused spectrum to provide broadband data and other services for consumers and businesses.

Subsequently on September 23, 2010, the Commission adopted a Second Memorandum Opinion and Order finalizing the rules to make the unused spectrum in the TV bands available for unlicensed broadband wireless devices. This action resolved on reconsideration certain legal and technical issues in order to provide certainty concerning the rules for operation of unlicensed transmitting devices in the television broadcast frequency bands (unlicensed TV bands devices or “TVBDs”). Resolution of these issues will now allow manufacturers to begin marketing unlicensed communications devices and systems that operate on frequencies in the TV bands in areas where they are not used by licensed services (“TV white spaces”).

In the Second Report and Order the Commission decided to designate one or more database administrator from the private sector to create and operate TV band databases. The TV band database administrators will act on behalf of the FCC, but will offer a privately owned and operated service. Each database administrator will be responsible for operation of their database and coordination of the overall functioning of the database with other administrators, and will provide database access to TVBDs.

The Commission also decided that operators of venues using unlicensed wireless microphones will be allowed to register their sites with the Commission which will transmit the information to the database administrators. The registration request must be filed at least 30 days in advance and the requests will be made public to provide an opportunity for public comment or objections.

Federal Communications Commission.
Marlene H. Dortch,
Secretary, Office of the Secretary, Office of Managing Director.

[FR Doc. 2011-23426 Filed 9-13-11; 8:45 am]

BILLING CODE 6712-01-P